DEPARTMENT OF TRANSPORTATION

Federal Aviation Administration

14 CFR Part 39

[Docket No. FAA-2013-0501; Directorate Identifier 2011-SW-036-AD; Amendment 39-17732; AD 2014-02-04]

RIN 2120-AA64

Airworthiness Directives; Eurocopter France Helicopters

AGENCY: Federal Aviation Administration (FAA), DOT.

ACTION: Final rule.

SUMMARY: We are adopting a new airworthiness directive (AD) for Eurocopter France (Eurocopter) Model EC 155B and EC155B1 helicopters. This AD requires repetitively inspecting the lower and upper front and rear fittings (fittings) that attach the upper fin to the fenestron for a crack and, if there is a crack, removing all four fittings from service. This AD also requires, within a specified time, removing all fittings from service, and the fittings would not be eligible to be installed on any helicopter. This AD was prompted by the loss of an upper fin in flight. The actions of this AD are intended to detect a crack in the fittings to prevent loss of the upper fin and subsequent loss of control of the helicopter.

DATES: This AD is effective March 7, 2014.

The Director of the Federal Register approved the incorporation by reference of a certain document listed in this AD as of March 7, 2014.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Discussion

On June 11, 2013, at 78 FR 34960, the Federal Register published our notice of proposed rulemaking (NPRM), which proposed to amend 14 CFR part 39 to include an AD that would apply to Model EC 155B and EC155B1 helicopters. The NPRM proposed inspecting certain part-numbered fittings for a crack and, if there is a crack, removing the fittings from service before further flight. Also, the NPRM proposed removing certain part-numbered fittings from service within 180 hours time-in-service (TIS) and prohibiting the fittings from being eligible for installation on any helicopter. The proposed requirements were intended to detect a crack in the fittings to prevent loss of the upper fin and subsequent loss of control of the helicopter.

The NPRM was prompted by AD No. 2011-0108, dated June 7, 2011, issued by EASA, which is the Technical Agent for the Member States of the European Union, to correct an unsafe condition for Eurocopter Model EC 155B and EC155B1 helicopters. EASA advises of an in-flight loss of a fin on a Model EC155B1 helicopter. According to EASA, a crack in the fittings attaching the upper fin to the fenestron (tail rotor assembly) was discovered during an investigation. As a result, EASA issued an emergency AD to mandate repetitive inspections of the upper fin attachment fittings. EASA states that Eurocopter developed modification (MOD) 0754B40 to increase the strength of the fuselage-fin junction fittings by installing two reinforced single-piece fittings to replace the affected fittings, which is terminating action for the repetitive inspection requirements. EASA subsequently issued AD No. 2011-0108, which superseded its emergency AD, to require installation of MOD 0754B40 and to retain the repetitive inspection requirements until the MOD is installed.

Comments

We gave the public the opportunity to participate in developing this AD, but we did not receive any comments on the NPRM (78 FR 34960, June 11, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between this AD and the EASA AD

This AD does not require replacing the upper fin to fenestron fittings with reinforced fittings in accordance with MOD 0754B40 within 6 calendar months as stated in the EASA AD, but rather requires removing the affected fittings from service within the equivalent 180 hours TIS.

Related Service Information

Eurocopter has issued Emergency Alert Service Bulletin No. 05A017, Revision 2, dated December 9, 2010, which specifies repetitively inspecting the fittings for a crack and replacing each fitting if there is a crack. Eurocopter has also issued Service Bulletin No. 53-029, Revision 1, dated March 10, 2011, which specifies replacing the fittings with reinforced fittings in accordance with MOD 0754B40.

Costs of Compliance

We estimate that this AD will affect 9 helicopters of U.S. Registry. We estimate that operators will incur the following costs in order to comply with this AD based on an average labor rate of $85 per work hour. It will take 1 work hour to inspect the fittings and about 3 inspections before replacement. It will take 8 work hours to replace the fittings, and required parts will cost $3,311. Based on these figures, the total cost will be $4,246 per helicopter and $38,214 for the U.S. fleet.

Authority for this Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-02-04 Eurocopter France Helicopters: Amendment 39-17732; Docket No. FAA-2013-0501; Directorate Identifier 2011-SW-036-AD.

(a) Applicability

This AD applies to Model EC 155B and EC155B1 helicopters with lower front fitting part number (P/N) 365A23-4240-01, upper front fitting P/N 365A23-4242-01, lower rear fitting P/N 365A23-4241-01, or upper rear fitting P/N 365A23-4243-01 (fittings), installed, certificated in any category.

(b) Unsafe Condition

This AD defines the unsafe condition as a crack in a fitting. This condition could result in loss of the upper fin during flight and subsequent loss of control of the helicopter.

(c) Effective Date

This AD becomes effective March 7, 2014.

(d) Compliance

You are responsible for performing each action required by this AD within the specified compliance time unless it has already been accomplished prior to that time.

(e) Required Actions

(1) Within 15 hours time-in-service (TIS) and thereafter at intervals not to exceed 55 hours TIS:

(i) Using an appropriate light source and a 10x or higher power magnifying glass, inspect each front (item c) and rear (item d) upper fitting and each front (item e) and rear (item f) lower fitting for a crack as depicted in Detail A of Figure 1 of Eurocopter Emergency Alert Service Bulletin No. 05A017, Revision 2, dated December 9, 2010 (ASB). Inspect the hatched area as depicted in Details B, C, and D of Figure 2 of the ASB. A high-resolution (more than 2 million pixels) digital camera or dye-penetrant inspection may be used to facilitate the crack inspection.

(ii) If there is a crack in any fitting, before further flight, remove all four fittings from service.

(2) Within 180 hours TIS, remove the fittings from service.

(3) Do not install lower front fitting P/N 365A23-4240-01, upper front fitting P/N 365A23-4242-01, lower rear fitting P/N 365A23-4241-01, and upper rear fitting P/N 365A23-4243-01 on any helicopter.

(f) Credit for Actions Previously Completed

Inspections accomplished before the effective date of this AD in accordance with the procedures specified in Eurocopter Emergency Alert Service Bulletin No. 05A017, Revision 2, dated December 9, 2010; Revision 1, dated January 27, 2010; and Revision 0, dated September 28, 2007, are considered acceptable for compliance with the initial inspection specified in paragraph (e)(1) of this AD.

(g) Special flight permits

Special flight permits will not be issued.

(h) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

(1) Eurocopter Service Bulletin No. 53-029, Revision 1, dated March 10, 2011, which is not incorporated by reference, contains additional information about the subject of this AD. For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

(2) The subject of this AD is addressed in European Aviation Safety Agency AD No. 2011-0108, dated June 7, 2011, which can be found in Docket No. FAA-2013-0501 on the Internet at http://www.regulations.gov.

(j) Subject

Joint Aircraft Service Component (JASC) Code: 5530 Vertical Stabilizer Structure.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Emergency Alert Service Bulletin No. 05A017, Revision 2, dated December 9, 2010.

(ii) Reserved.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 16, 2014.
Lance T. Gant,
Acting Directorate Manager, Rotorcraft Directorate, Aircraft Certification Service.

[FR Doc. 2014-01461 Filed 1-30-14; 8:45 am]

BILLING CODE 4910-13-P